DEPARTMENT OF AGRICULTURE

Rural Housing Service

7 CFR Part 3560

RIN 0575-AC13

Reinvention of the Sections 514, 515, 516 and 521 Multi-Family Housing Programs

AGENCY: Rural Housing Service, USDA.

ACTION: Interim final rule; delay of effective date.

SUMMARY: The Rural Housing Service is delaying implementation of selected sections of the interim final rule published on November 26, 2004 (69 FR 69032-69176). The interim final rule contains requirements regarding citizenship eligibility about which the Agency received several comments. The comments suggested that Agency procedures unnecessarily imposed more requirements than those required under the Department of Housing and Urban Development (HUD) procedures for similar programs. As a result the Agency has decided to delay implementation of the sections listed below in order to harmonize its procedures with HUD under 42 U.S.C. 1436a.

DATES: The effective date for §§ 3560.152(a)(1), 3560.154(a)(7), 3560.156(c)(12), and 3560.254(c)(3) are delayed indefinitely from February 24, 2005, until the Agency publishes an effective date in a future Federal Register.

FOR FURTHER INFORMATION CONTACT: Stephanie White, Director, Multi-Family Housing Portfolio Management Division, Rural Housing Service, U.S. Department of Agriculture, Room 1265, South Building, Stop 0782, 1400 Independence Avenue, SW., Washington, DC 20250-0782, telephone (202) 720-1615.

SUPPLEMENTARY INFORMATION:

Delay of Implementation

In the interim final rule published November 26, 2004 (69 FR 69032-69176), implementation of the specific words in quotes in the following specific sections will be delayed indefinitely:

PART 3560—[AMENDED]

§ 35560.152 [Amended]

On page 69133, second column, § 3560.152 (a) (1) “Be a United States citizen or qualified alien, and”;

§ 3560.154 [Amended]

On page 69134, third column, § 3560.154 (a) (7) “* * * and a certification that the applicant is a U.S. citizen or a qualified alien as defined in § 3560.11 * * *”;

§ 3560.156 [Amended]

On page 69136, third column, § 3560.156 (c) (12) “* * * their citizenship status, * * *”; and

§ 3560.254 [Amended]

On page 69144, first column, § 3560.254 (c) (3) “Whose head of the household is a U.S. citizen or a legal alien as defined in § 3560.11.”

Dated: February 14, 2005.
Gilbert Gonzales,
Acting Under Secretary, Rural Development.

[FR Doc. 05-3226 Filed 2-18-05; 8:45 am]

BILLING CODE 3410-XV-P